DEPARTMENT OF HOMELAND SECURITY

Federal Emergency Management Agency

Agency Information Collection Activities: Proposed Collection; Comment Request

AGENCY: Federal Emergency Management Agency, DHS.

ACTION: Notice and request for comments.

SUMMARY: The Federal Emergency Management Agency, as part of its continuing effort to reduce paperwork and respondent burden, invites the general public and other Federal agencies to take this opportunity to comment on a proposed revised information collection. In accordance with the Paperwork Reduction Act of 1995, this notice seeks comments concerning the e-Grants application used to determine whether mitigation activities proposed for funding meets eligibility criteria. To better reflect all of the mitigation grant programs using the mitigation e-Grants application, the Flood Mitigation Assistance (FMA) e-Grant Program, the Pre-Disaster Mitigation (PDM) e-Grant Program and the Repetitive Flood Claims (RFC) e-Grant Program have been combined and renamed to be called the Mitigation Grant Program/e-Grants.

SUPPLEMENTARY INFORMATION:

Collection of Information

Title: Mitigation Grant Program/e-Grants (previously named Flood Mitigation Assistance (e-Grants)).

Type of Information Collection: Revision of a currently approved collection.

OMB Number: 1660-0072.

Form Numbers: None.

Abstract: The States will utilize the Mitigation Grant Program/e-Grants, automated application to report to FEMA on a quarterly basis, certify how funding is being used and to report on the progress of mitigation activities funded under grant awards, made to Grantees by FEMA. FEMA will use this system to review the Grantees quarterly reports to ensure that mitigation grant activities are progressing on schedule and to track the expenditure of funds.

Affected Public: State, Local or Tribal Government, and Federal Government.

Estimated Total Annual Burden Hours:
Data collection activities/instrument | Number of respondents (A) | Frequency of responses (B) | Hours burden per response (C) | Annual responses (D+A*B) | Annual burden hours (E=C*D)
FMA
Benefit-Cost Determination | 56 | 2 | 5 hours | 112 | 560
Environmental Review | 56 | 2 | 7.5 hours | 112 | 840
Project Narrative—Sub-grant Application | 56 | 4 | 12 hours | 224 | 2,688
Subtotal for FMA e-Grants Supplemental Information | 56 |  | 24.5 | 448 | 4,088
PDM
Benefit-Cost Determination | 56 | 20 | 5 hours | 1,120 | 5,600
Environmental Review | 56 | 20 | 7.5 hours | 1,120 | 8,400
Project Narrative—Sub-grant application (including PDM Evaluation Information Questions ⁵) | 56 | 20 | 12 hours | 1,120 | 13,440
Subtotal for PDM e-Grants Supplemental Information | 56 |  | 24.5 | 3,360 | 27,440
RFC
Benefit-Cost Determination | 56 | 1 | 5 hours | 56 | 280
Environmental Review | 56 | 1 | 7.5 hours | 56 | 420
Project Narrative—Sub-grant application | 56 | 2 | 12 hours | 112 | 1,344
Subtotal for RFC e-Grants Supplemental Information | 56 |  | 24.5 | 224 | 2,084
Totals | 56 |  | 24.5 | 4,032 | 33,612

Estimated Cost: The total annual estimated costs to States and tribal governments for information collection associated with the mitigation grant programs is $891,726.36. This calculation is based on the number of annual burden hours for wage rates for Urban and Regional Planners, responsible for collecting the information or completing the e-Grants information at the State level. The cost for developing e-Grants system is approximately $4.4 million. System enhancements will continue into future years, at an average cost to FEMA of $750,000 annually in contract costs.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before June 11, 2007.

ADDRESSES: Interested persons should submit written comments to Chief, Records Management and Privacy, Information Resources Management Branch, Information Technology Services Division, Federal Emergency Management Agency, 500 C Street, SW., Room 609, Washington, DC 20472.

FOR FURTHER INFORMATION CONTACT: Contact Cecelia Rosenberg, Section Chief, Mitigation Division, (202) 646-3321 for additional information. You may contact the Records Management Branch for copies of the proposed collection of information at facsimile number (202) 646-3347 or e-mail address: FEMA-Information-Collections@dhs.gov.

Dated: April 2, 2007.
John A. Sharetts-Sullivan,
Chief, Records Management and Privacy Information Resources Management Branch, Information Technology Services Division, Federal Emergency Management Agency, Department of Homeland Security.

[FR Doc. E7-6757 Filed 4-9-07; 8:45 am]

BILLING CODE 9110-11-P